DEPARTMENT OF COMMERCE

National Oceanic and Atmospheric Administration

RIN 0648-XA288

Marine Mammals; File No. 15748

AGENCY: National Marine Fisheries Service (NMFS), National Oceanic and Atmospheric Administration (NOAA), Commerce.

ACTION: Notice; issuance of permit.

SUMMARY: Notice is hereby given that a permit has been issued to the Alaska SeaLife Center (ASLC), Seward, AK, to conduct research on marine mammals.

ADDRESSES: The permit and related documents are available for review upon written request or by appointment in the following offices:

Permits, Conservation and Education Division, Office of Protected Resources, NMFS, 1315 East-West Highway, Room 13705, Silver Spring, MD 20910; phone (301) 713-2289; fax (301) 713-0376; and

Southwest Region, NMFS, 501 West Ocean Blvd., Suite 4200, Long Beach, CA 90802-4213; phone (562) 980-4001; fax (562) 980-4018.

FOR FURTHER INFORMATION CONTACT: Tammy Adams or Joselyd Garcia-Reyes, (301) 713-2289.

SUPPLEMENTARY INFORMATION: On March 14, 2011, notice was published in the Federal Register (76 FR 13603) that a request for a permit to conduct research on marine mammals had been submitted by the above-named applicant. The requested permit has been issued under the authority of the Marine Mammal Protection Act of 1972, as amended (16 U.S.C. 1361 et seq.), and the regulations governing the taking and importing of marine mammals (50 CFR part 216).

The permit authorizes capture and harassment of free-living Weddell seals (Leptonychotes weddellii) in McMurdo Sound and along the shore of Ross Island, Antarctica to study thermoregulation. The research involves capture and restraint of adult females and pups/juveniles of either sex for attachment of scientific instruments, morphometric measurements, ultrasound, and tissue sampling. Harassment of additional seals in the vicinity of captured animals is also authorized, as is research-related mortality. Tissue samples collected may be exported from Antarctica for analysis in the U.S. The permit expires August 30, 2015.

In compliance with the National Environmental Policy Act of 1969 (42 U.S.C. 4321 et seq.), a final determination has been made that the activity proposed is categorically excluded from the requirement to prepare an environmental assessment or environmental impact statement.

Dated: May 26, 2011.
P. Michael Payne,
Chief, Permits, Conservation and Education Division, Office of Protected Resources, National Marine Fisheries Service.

[FR Doc. 2011-13714 Filed 6-1-11; 8:45 am]

BILLING CODE 3510-22-P